NATIONAL FOUNDATION FOR THE ARTS AND THE HUMANITIES

Submission for OMB Review, Comment Request, Proposed Collection: IMLS Museum Web Database: MuseumsCount.gov

AGENCY: Institute of Museum and Library Services, National Foundation for the Arts And the Humanities.

ACTION: Submission for OMB review, comment request.

SUMMARY: The Institute of Museum and Library Services announces that the following information collection has been submitted to the Office of Management and Budget (OMB) for review and approval in accordance with the Paperwork Reduction Act (44 U.S.C. Chapter 35). This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the FOR FURTHER INFORMATION CONTACT section below on or before July 30, 2012.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Kim Miller, Management Analyst, Institute of Museum and Library Services, 1800 M St. NW., Washington, DC 20036. Telephone: 202-653-4762, Fax: 202-653-4600 or by email at kmiller@imls.gov or by teletype (TTY/TDD) for persons with hearing difficulty at 202-653-4614.

SUPPLEMENTARY INFORMATION: The Institute of Museum and Library Services (IMLS) is an independent Federal grant-making agency and is the primary source of Federal support for the Nation's 123,000 libraries and 17,500 museums. IMLS provides a variety of grant programs to assist the Nation's museums and libraries in improving their operations and enhancing their services to the public. IMLS is responsible for identifying national needs for, and trends of, museum and library services funded by IMLS; reporting on the impact and effectiveness of programs conducted with funds made available by IMLS in addressing such needs; and identifying, and disseminating information on, the best practices of such programs. (20 U.S.C. Chapter 72, 20 U.S.C. 9108).

Abstract: The purpose of the information collection is to develop a national database of museums for use by museums, museum professionals, IMLS, policy makers, researchers, and the general public. Information such as name, address, phone, email, Web site, staff size, program details, collections care and other institutional will be collected. The proposed information collection, which is the subject of this notice, would establish a comprehensive, reliable database about the size, distribution and scope of the museum sector in the U.S.

Current Actions: This notice proposes clearance of the IMLS Museum Web Database: MuseumsCount.gov collection. The 60-day notice for the IMLS Museum Web Database: MuseumsCount.gov collection was published in the Federal Register on September 2, 2011, (FR vol. 76, No. 171, pg. 54807). No comments were received.

Agency: Institute of Museum and Library Services.

Title: IMLS Museum Web Database, MuseumsCount.gov.

OMB Number: To be determined.

Agency Number: 3137.

Frequency: Annually.

Affected Public: General public, museums, museum professional associations, museum professionals, and museum organizations associated with Indian tribes (including any Alaska native village, regional corporation, or village corporation), and organizations that primarily serve and represent Native Hawaiians.

Number of Respondents: 39,000.

Estimated Time per Respondent: 25 minutes.

Total Burden Hours: 16,250.

Total Cost for Respondents: $330,524.

Total Annualized Capital/Startup Costs: $350,000.

FOR FURTHER INFORMATION CONTACT: Comments should be sent to Office of Information and Regulatory Affairs, Attn.: OMB Desk Officer for Education, Office of Management and Budget, Room 10235, Washington, DC 20503, 202-395-7316.

Dated: June 27, 2012.
Kim A. Miller,
Management Analyst, Institute of Museum & Library Services.

[FR Doc. 2012-16164 Filed 6-29-12; 8:45 am]

BILLING CODE 7036-01-P